DEPARTMENT OF DEFENSE

Department of the Air Force

Notice of Record of Decision for the Environmental Impact Statement 492nd Special Operations Wing Beddown at Davis-Monthan Air Force Base, Arizona

AGENCY: Department of the Air Force.

ACTION: Notice of Record of Decision.

SUMMARY: On September 11, 2025, the Department of the Air Force (DAF) signed the Record of Decision (ROD) for the 492nd (492) Special Operations Wing (SOW) Beddown at Davis-Monthan Air AFB, AZ Environmental Impact Statement.

FOR FURTHER INFORMATION CONTACT: Mr. Nicolas Post (AFCEC/CIEE), 2261 Hughes Avenue, STE. 155, JBSA Lackland, TX 78236-9853 (380) 459-0507; nicolas.post@us.af.mil.

SUPPLEMENTARY INFORMATION: The DAF has decided to relocate the 492 SOW from Hurlbert Field, Florida to Davis-Monthan AFB, Arizona along with other units and personnel. The proposed 492 SOW Beddown will result in changes to personnel, airfield operations, airspace use, range use, and require completion of facilities and infrastructure projects.

The DAF decision documented in the ROD was based on matters discussed in the Final Environmental Impact Statement, inputs from the public and regulatory agencies, and other relevant factors. The Final Environmental Impact Statement was made available to the public on March 14, 2025 through a Notice of Availability in the Federal Register (90 FR 12158) with a waiting period that ended on April 14, 2025.

Authority: 42 U.S.C. 4321, et seq. and Department of Defense National Environmental Policy Act Implementing Procedures.

Crystle C. Poge,
Air Force Federal Register Liaison Officer.

[FR Doc. 2025-22176 Filed 12-5-25; 8:45 am]

BILLING CODE 3911-44-P